COMMODITY FUTURES TRADING COMMISSION

Global Markets Advisory Committee Meeting

This is to give notice, pursuant to section 10(a) of the Federal Advisory Committee Act, 5 U.S.C. App. 2, section 10(a), that the Commodity Futures Trading Commission's Global Markets Advisory Committee will conduct a public meeting on Wednesday, June 2, 2004. The meeting will take place in the first floor hearing room of the Commission's Washington, DC headquarters, Three Lafayette Centre, 1155 21st Street, NW., Washington, DC 20581 from 2 to 5 p.m. The purpose of the meeting is to discuss global markets-related issues in the financial services and commodity markets.

The agenda will consist of the following:

(1) Call to order and introductions.

(2) Report on activities of CFTC Office of International Affairs.

(3) Cross-border clearing issues.

(4) International regulatory coordination/enforcement harmonization.

(5) Other business.

(6) Discussion of future meetings and topics.

(7) Adjournment.

The meeting is open to the public. The Chairman of the Advisory Committee, Commissioner Walter L. Lukken, is empowered to conduct the meeting in a fashion that will, in his judgment, facilitate the orderly conduct of business. Any member of the public who wishes to file a written statement with the Advisory Committee should mail a copy of the statement to the attention of: Global Markets Advisory Committee, c/o Commissioner Walter L. Lukken, Commodity Futures Trading Commission, Three Lafayette Centre, 1155 21st Street, NW., Washington, DC 20581, before the meeting. Members of the public who wish to make oral statements should inform Commissioner Lukken in writing at the foregoing address at least three business days before the meeting. Reasonable provision will be made, if time permits, for oral presentations of no more than five minutes each in duration.

For further information concerning this meeting, please contact David A. Stawich at 202-418-5071.

Issued by the Commission in Washington, DC on May 12, 2004.
Jean A. Webb,
Secretary of the Commission.

[FR Doc. 04-11274 Filed 5-18-04; 8:45 am]

BILLING CODE 6351-01-M